DEPARTMENT OF HEALTH AND HUMAN SERVICES

Health Resources and Services Administration

Single Source Program Expansion Supplement Award to Nurse Education, Practice, Quality and Retention (NEPQR) Program Grantee; Exception to Competition

AGENCY: Health Resources and Services Administration (HRSA), Department of Health and Human Services (HHS).

ACTION: Notice of Exception to Competition—Single Source Program Expansion Supplement Award to Nurse Education, Practice, Quality and Retention (NEPQR) Program Grantee—Texas A&M University Corpus Christi (TAMUCC), College of Nursing and Health Science (CONHS).

SUMMARY: The Health Resources and Services Administration (HRSA)'s Bureau of Health Professions is issuing a non-competitive single source program expansion supplement award to the NEPQR Program grantee TAMUCC-CONHS to build upon their feasibility study, Transitioning Enlisted Health Care Training into Academic Credit for Nursing Education Programs, and undertake a dissemination program to advance the goal of aligning enlisted health care training with civilian nursing program requirements. In fiscal year (FY) 2012, $178,374 will be available to fund this award. TAMUCC-CONHS is uniquely qualified and has the capacity, capability, expertise, experience, and infrastructure to expeditiously, effectively, and efficiently implement the project within their existing educational programming. During the previous year, TAMUCC-CONHS has gained in-depth insight into the full range academic, financial, and socio-economic barriers that interfere with successful transition from military to civilian careers, and how these barriers are compounded by the burden of navigating the military-academic labyrinth. Thus they are well-positioned to bridge the gap between health care training command programs and academic programs in schools of nursing work.

SUPPLEMENTARY INFORMATION: Intended Recipient of the Award: Texas A&M University Corpus Christi (TAMUCC), College of Nursing and Health Science (CONHS).

Amount of Award: $178,374.

Authority: Section 831 and 831a under Title VIII of the Public Health Service Act (42 U.S.C. 296p and 42 U.S.C. 296 p-1), as amended by Sec.5309 of the Patient Protection and Affordable Care Act, Public Law 111-148.

CFDA Number: 93.359.

Project Period: September 1, 2012, through August 31, 2013.

Justification: In FY 2010, HRSA competitively funded the eLine Military (ELM) program at TAMUCC-CONHS, an online nursing education program offered to residents of Texas who are members of the military or veterans with previous medical experience. One of the critical challenges the ELM program faced concerned granting college credit for health care training and experiences provided in training command programs. This training lacked the structure and rigor foundational to academic courses, creating a significant impediment to granting academic credit for these experiences. In FY 2011, TAMUCC-CONHS received a supplemental award to develop strategies to surmount the barriers to gaining nursing academic credit for military training and to develop recommendations for their implementation. This supplement will build upon the feasibility study and undertake a dissemination program to advance the goal of aligning enlisted health care training with civilian nursing program requirements. This supplement directly supports the scope of the ELM program/parent grant and has significant implications for returning veterans seeking academic credit for enlisted health care training at CONHS and nursing schools across the country. Identifying the barriers to efficient enrollment and pursuit of nursing education by veterans and developing a plan for surmounting these barriers will provide schools of nursing with the tools needed to develop effective academic pathways for veterans, bring nursing education opportunities to a new and largely untapped cohort of persons with interest in and training in health care occupations, open up campuses to veterans in engaging and supporting ways, spur interest in and enrollment in nursing programs by veterans, and increase diversity in the nursing workforce. A stakeholders meeting and dissemination plan will be designed to bring the study findings to the broadest possible audience.

FOR FURTHER INFORMATION CONTACT: Julie Sochalski, Health Resources and Services Administration, Division of Nursing, 5600 Fishers Lane, Room 9-61, Rockville, Maryland 20857, or email at jsochalski@hrsa.gov.

Dated: September 25, 2012.
Mary K. Wakefield,
Administrator.

[FR Doc. 2012-24101 Filed 9-28-12; 8:45 am]

BILLING CODE 4165-15-P